DEPARTMENT OF JUSTICE

Notice of Lodging of Consent Decree Under the Comprehensive Environmental Response, Compensation, and Liability Act

Notice is hereby given that on August 19, 2010, a proposed Consent Decree in United States and State of Texas v. Halliburton Energy Services, Inc., et al., Civil Action No. 4-07-CV-3795, was lodged with the United States District Court for the Southern District of Texas.

In this action the United States, on behalf of the United States Environmental Protection Agency, and the State of Texas, on behalf of the Texas Commission on Environmental Quality (“TCEQ”), sought, pursuant to Sections 107 and 113 of the Comprehensive Environmental Response, Compensation and Liability Act (“CERCLA”), 42 U.S.C. 9607 and 9613, seeking reimbursement of response costs incurred or to be incurred for response actions taken at or in connection with the release or threatened release of hazardous substances at three facilities located in Webster, Texas (the “Webster Site”), Odessa, Texas (the “Odessa Site”), and Houston, Texas (the “Tavenor Site”), known collectively as the “Gulf Nuclear Sites” or “Sites” as well as declaratory relief.

The United States and the State have negotiated a consent decree with certain Defendants to resolve the CERCLA claims as well as the State law claims. The proposed Consent Decree resolves the liability of DII Industries, LLC, Halliburton Energy Services, Inc., NL Industries, Inc., and Precision Energy Services, Inc. for response costs incurred or to be incurred and response actions taken in connection with the Sites. Under the Consent Decree, Settling Defendants agree to reimburse the United States and the State a share of their response costs for the Sites with payments totaling the collective sum of $5,965,000 for the United States and $325,000 for the State. This Consent Decree includes a covenant not to sue by the United States and the State under Sections 106, 107 and 113 of CERCLA.

The Department of Justice will receive for a period of thirty (30) days from the date of this publication comments relating to the Consent Decree. Comments should be addressed to the Assistant Attorney General for the Environment and Natural Resources Division, U.S. Department of Justice, and either e-mailed to pubcomment-ees.enrd@usdoj.gov or mailed to P.O. Box 7611, NW., Washington, DC 20044-7611, and should refer to United States and State of Texas v. Halliburton Energy Services, Inc., et al., D.J. Ref. 90-11-3-07730/1.

The Consent Decrees may be examined at the Office of the United States Attorney, Southern District of Texas, 919 Milam Street, Suite 1500, Houston, Texas 77002. The Consent Decree may also be examined at U.S. EPA Region 6, 1445 Ross Avenue, Suite 1200, Dallas, Texas, 75202. During the public comment period, the Consent Decree, may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $10.00 (25 cents per page reproduction cost) payable to the U.S. Treasury or, if by email or fax, forward a check in that amount to the Consent Decree Library at the stated address.

Maureen Katz,
Assistant Section Chief, Environmental Enforcement Section, Environment and Natural Resources Division.

[FR Doc. 2010-21071 Filed 8-24-10; 8:45 am]

BILLING CODE 4410-15-P